DEPARTMENT OF THE TREASURY

Community Development Financial Institutions Fund

Funding Opportunity: Community Development Financial Institutions Fund

Funding Opportunity Title: Change to Notice of Funds Availability (NOFA) inviting Applications for grants under the CDFI Equitable Recovery Program (CDFI ERP).

Announcement Type: Change of Application deadline and other key deadlines; technical correction related to eligibility requirements.

Catalog of Federal Domestic Assistance (CFDA) Number: 21.033.

Executive Summary: On June 24, 2022, the Community Development Financial Institutions Fund (CDFI Fund) published a Notice of Funds Availability (NOFA) for grants under the CDFI Equitable Recovery Program (CDFI ERP) in the Federal Register (87 FR 37912, June 24, 2022) announcing the availability of approximately $1.73 billion in grants, pursuant to § 523 (Section 523) of Division N of the Consolidated Appropriations Act, 2021 (Pub. L. 116-260). The CDFI Fund is issuing this notice to amend the below six deadlines contained within the NOFA. The revised deadlines are listed in Table A.

Table A—Revised Deadlines for CDFI ERP Applicants
Description | Original deadline | Revised deadline
Submit OMB Standard Form-424 Mandatory (Application for Federal Assistance) (SF-424) | 11:59 p.m. Eastern Time (ET) on July 26, 2022 | 11:59 p.m. ET on August 18, 2022.
Enter Employer Identification Number (EIN) and Unique Entity Identifier (UEI) numbers in AMIS | 11:59 p.m. ET on July 26, 2022 | 11:59 p.m. ET on August 18, 2022.
Last day to contact CDFI Fund with questions about the CDFI ERP | 5:00 p.m. ET on August 19, 2022 | 5:00 p.m. ET on September 20, 2022.
Last day to contact CDFI Fund with questions about Compliance or CDFI Certification | 5:00 p.m. ET on August 19, 2022 | 5:00 p.m. ET on September 20, 2022.
Last day to contact AMIS-IT Help Desk (regarding AMIS technical problems only) | 5:00 p.m. ET on August 23, 2022 | 5:00 p.m. ET on September 22, 2022.
Submit complete CDFI ERP Application Package | 11:59 p.m. ET on August 23, 2022 | 11:59 p.m. ET on September 22, 2022.

All other deadlines shall remain in accordance with the NOFA published on June 24, 2022.

Additionally, the CDFI Fund is issuing a technical correction to one of the eligibility requirements outlined in Table 3 of the NOFA published on June 24, 2022. The NOFA requires that each “Applicant has audited financial statements encompassing its two most recent historic fiscal years prior to the publication date of this NOFA.” The CDFI Fund adds the following clarification to this requirement:

If, for any reason, the audit for the Applicant's most recent historic fiscal year is not complete as of the due date of the AMIS Application, the Applicant must have audited financial statements for its two historic fiscal years prior to the most recent historic fiscal year. A Regulated Institution that files call reports to its regulator is exempt from the requirement to have audits.

To correspond with this correction, Table 4 in the NOFA, outlining required Application documents and attachments, is edited to reflect which attachments are required. For loan funds, venture funds, and other non-regulated institutions, if the audit for the Applicant's most recent historic fiscal year is not complete as of the due date of the AMIS Application, the Applicant should attach audited financial statements encompassing its two historic fiscal years prior to the most recent historic fiscal year.

Capitalized terms used but not defined in the NOFA are defined in the Regulations, the Application, the Application Materials, or the Uniform Requirements. All other information and requirements set forth in the NOFA published on June 24, 2022, shall remain effective, as published.

I. Agency Contacts

A. General information and CDFI Fund support: The CDFI Fund will respond to questions concerning the NOFA and the Application between the hours of 9:00 a.m. and 5:00 p.m. Eastern Time, starting on the date that the NOFA was published through the dates listed in this notice. The CDFI Fund strongly recommends Applicants submit questions to the CDFI Fund via an AMIS service request for the CDFI ERP, Office of Certification Evaluation and Policy, the Office of Compliance Monitoring and Evaluation, or IT Help Desk. The CDFI Fund will post on its website information to clarify the NOFA and Application. Other information regarding the CDFI Fund and its programs may be obtained from the CDFI Fund's website at http://www.cdfifund.gov.

B. The CDFI Fund's contact information is as follows:

Table B—Contact Information
Type of question | Preferred method | Telephone No. (not toll free) | Email addresses
CDFI ERP Questions | Service Request via AMIS | 202-653-0421 | erp@cdfi.treas.gov.
CDFI Certification | Service Request via AMIS | 202-653-0423 | ccme@cdfi.treas.gov.
Compliance Monitoring and Evaluation | Service Request via AMIS | 202-653-0423 | ccme@cdfi.treas.gov.
AMIS—IT Help Desk | Service Request via AMIS | 202-653-0422 | AMIS@cdfi.treas.gov.

C. Communication with the CDFI Fund: The CDFI Fund will use the contact information in AMIS to communicate with Applicants and Recipients. It is imperative therefore, that Applicants, Recipients, Subsidiaries, Affiliates, and signatories maintain accurate contact information in their accounts. This includes information such as contact names (especially for the Authorized Representative), email addresses, fax and phone numbers, and office locations. For more information about AMIS, please see the AMIS Landing Page at https://amis.cdfifund.gov.

Authority: Pub L. 116-260; 12 U.S.C. 4701, et seq.; 12 CFR parts 1805 and 1815; 2 CFR part 200.

Jodie L. Harris,
Director, Community Development Financial Institutions Fund.

[FR Doc. 2022-15357 Filed 7-14-22; 11:15 am]

BILLING CODE 4810-05-P